DEPARTMENT OF TRANSPORTATION

Federal Aviation Administration

14 CFR Part 71

[Docket No. FAA-2009-1080; Airspace Docket No. 09-AGL-13]

RIN 2120-AA66

Modification of Jet Routes J-32, J-38, and J-538; Minnesota

AGENCY: Federal Aviation Administration (FAA), DOT.

ACTION: Final rule.

SUMMARY: This action modifies Jet Routes J-32 and J-38 by terminating portions of the routes that are no longer needed at the Duluth, MN, VHF omnidirectional range/tactical air navigation (VORTAC) that are no longer needed. This action also modifies the J-538 airway description to align it with the corresponding segment of J-538 contained in Canadian airspace. This action is necessary for the safety and management of instrument flight rules (IFR) operations within the National Airspace System (NAS).

DATES: Effective date 0901 UTC, September 23, 2010. The Director of the Federal Register approves this incorporation by reference action under 1 CFR part 51, subject to the annual revision of FAA Order 7400.9 and publication of conforming amendments.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On Wednesday, December 9, 2009, the FAA published in the Federal Register a notice of proposed rulemaking to modify jet routes J-32, J-38, and J-538 between the Duluth, MN, VORTAC and the United States (U.S.)/Canadian border (74 FR 65040). Interested parties were invited to participate in this rulemaking effort by submitting written comments on the proposal. No comments were received.

The Rule

This action amends Title 14 Code of Federal Regulation (14 CFR) part 71 by modifying Jet Routes J-32, J-38, and J-538 in the Duluth, MN, area. These modifications will enhance the flow of air traffic by removing unused segments of J-32 and J-38, extending between the Duluth, MN, VORTAC and the U.S./Canadian border that do not meet or connect to any corresponding airways within Canadian airspace. This action also changes the legal description of J-538 to correctly reflect the current charted alignment with the Sioux Narrows, ON, VORTAC.

Jet Routes are published in paragraph 2004 of FAA Order 7400.9T dated August 27, 2009 and effective September 15, 2009, which is incorporated by reference in 14 CFR 71.1. The jet routes listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it modifies the route structure of Jet Routes as required to preserve the safe and efficient flow of air traffic.

Environmental Review

The FAA has determined that this action qualifies for categorical exclusion under the National Environmental Policy Act in accordance with FAA Order 1050.1E, Environmental Impacts: Polices and Procedures, paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9T, Airspace Designations and Reporting Points, signed August 27, 2009 and effective September 15, 2009, is amended as follows:

Paragraph 2004 Jet Routes.

* * * * *

J-32 [Modified]

From Oakland, CA, via Sacramento, CA; Mustang, NV; Lovelock, NV; Battle Mountain, NV; Malad City, ID; Boysen Reservoir, WY; Crazy Woman, WY; Dupree, SD; Aberdeen, SD; to Duluth, MN.

* * * * *

J-38 [Modified]

From Duluth, MN; Green Bay, WI; to Peck, MI.

* * * * *

J-538 [Modified]

From Sioux Narrows, ON; Duluth, MN; Dells, WI; to Badger, WI. The airspace within Canada is excluded.

Issued in Washington, DC, on May 25, 2010.
Edith V. Parish,
Manager, Airspace and Rules Group.

[FR Doc. 2010-13992 Filed 6-10-10; 8:45 am]

BILLING CODE 4910-13-P